DEPARTMENT OF HOUSING AND URBAN DEVELOPMENT

[Docket No. FR-5041-N-16]

Notice of Proposed Information Collection: Comment Request; Mortgagee's Certification and Application for Interest Reduction Payments

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: July 14, 2006.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8001, Washington, DC 20410 or Lillian_Deitzer@hud.gov.

FOR FURTHER INFORMATION CONTACT: Kimberly R. Munson, Office of Multifamily Asset Management, Department of Housing and Urban Development, 451 7th Street, SW., Washington, DC 20410, telephone (202) 708-3730 (this is not a toll-free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Mortgagee's Certification and Application for Interest Reduction Payments.

OMB Control Number, if applicable: 2502-0445.

Description of the need for the information and proposed use: This information is necessary to authorize and disburse monthly interest reduction payments to approved HUD mortgagees servicing non-insured multifamily mortgages.

Agency form numbers, if applicable: HUD-3111.

Estimation of the total numbers of hours needed to prepare the information collection including number of respondents, frequency of response, and hours of response: The estimated number of respondents is 110 generating approximately 1,320 annual responses; the frequency of response is monthly; the estimated time to prepare the information collection is .33 (20 minutes); and the estimated total annual burden is 436.

Status of the proposed information collection: This is an extension of a currently approved collection.

Authority: The Paperwork Reduction Act of 1995, 44 U.S.C., Chapter 35, as amended.

Dated: May 10, 2006.
Frank L. Davis,
General Deputy Assistant Secretary for Housing, Deputy Federal Housing Commissioner.

[FR Doc. E6-7353 Filed 5-12-06; 8:45 am]

BILLING CODE 4210-67-P